DEPARTMENT OF THE INTERIOR

Minerals Management Service

Outer Continental Shelf (OCS), Alaska OCS Region, North Aleutian Basin, Proposed Oil and Gas Lease Sale 214

AGENCY: Minerals Management Service (MMS), Interior.

ACTION: Call for Information and Nominations (Call) and Notice of Intent (NOI) to prepare an Environmental Impact Statement (EIS).

SUMMARY: This Call for Information and Nominations (hereinafter referred to as “Call”) and the NOI are the initial information-gathering steps in a process that incorporates planning and analysis for proposed OCS Oil and Gas Lease Sale 214 in the program area of the North Aleutian Basin Planning Area offshore the State of Alaska. The program area is that subarea of the larger North Aleutian Basin Planning Area identified in the OCS Oil and Gas Leasing Program, 2007 to 2012, that may be offered in the proposed Sale 214. Readers are cautioned that this announcement is not a commitment to hold a lease sale but rather a continuation of the information-gathering and evaluation process.

Simultaneously with this Call, the MMS is giving notice of its intent to prepare an EIS for Sale 214 in the North Aleutian Basin, tentatively scheduled for 2011. The EIS analysis will focus on the potential environmental effects of oil and gas exploration, development, and production in the proposed sale area and its vicinity. This NOI also serves to announce the initiation of the scoping process for this EIS. The MMS will consider comments received in response to this NOI and Call in determining the proposed sale area and the scope of the EIS. The Department of the Interior (DOI) is also inviting other Federal, State, Tribal, and local governments to consider becoming cooperating agencies in the preparation of the EIS.

DATES: Nominations and Comments on the Call must be received no later than July 7, 2008. Submittals should be labeled “Nominations for Proposed Sale 214” or “Comments on Call for Information and Nominations for Proposed Sale 214,” as appropriate. Comments on the NOI also must be received no later than July 7, 2008. Submittals should be labeled “Comments on the Notice of Intent for Proposed Sale 214.”

FOR FURTHER INFORMATION CONTACT: Please contact Dr. Cleve Cowles, Regional Supervisor, Office of Leasing and Environment, Minerals Management Service, Alaska OCS Region, 3801 Centerpoint Drive #500, Anchorage, Alaska 99503-5820, phone at (907) 334-5233 regarding questions on the Call or NOI.

Supplementary Information On the Call

The final EIS will serve as the National Environmental Policy Act (NEPA) analysis for North Aleutian Basin Sale 214. The MMS will prepare additional Coastal Zone Management Act (CZMA) Consistency Determination (CD), CZMA, and Outer Continental Shelf Lands Act (OCSLA) documents, as appropriate.

Call for Information and Nominations

1. Authority: This Call is published pursuant to the OCSLA as amended (43 U.S.C. 1331-1356, (1994)) and the regulations issued thereunder (30 CFR 256); and in accordance with the OCS Oil and Gas Leasing Program, 2007-2012.

2. Purpose of Call: The purpose of the Call is to gather nominations and information for proposed OCS Lease Sale 214, tentatively scheduled in 2011 in the “program area” of the North Aleutian Basin Planning Area.

Information and nominations on oil and gas leasing, exploration, and development and production within the program area of the North Aleutian Basin are sought from all interested parties. This early planning and consultation step is important for ensuring that all interests and concerns are communicated to the DOI for its consideration in future decisions in the leasing process pursuant to the OCSLA and regulations at 30 CFR 256. This Call/NOI is being issued in accordance with the OCS Oil and Gas Leasing Program, 2007-2012.

This Call is to gather information and does not indicate a preliminary decision to lease in the areas described below. Final decision and delineation of each area for possible leasing will be made at a later date and only if there is compliance with applicable laws including all requirements of the OCSLA and NEPA using established departmental procedures.

3. Description of Area: The area that is the subject of this Call is located offshore the State of Alaska in the North Aleutian Basin Planning Area. The “program area” is that subarea of the larger planning area identified in OCS Oil and Gas Leasing Program, 2007-2012. The “program area” extends offshore from about 10 statute miles to approximately 120 statute miles, in water depths from approximately 40 feet (12 meters) to 120 feet (37 meters). This area consists of approximately 990 whole and partial blocks of about 2.3 million hectares (5.6 million acres). A page size map of the program area accompanies this Call. Official Protraction Diagrams (OPDs) are available at no charge at the website: http://www.mms.gov/ld/alaska.htm.

4. Instructions On Call: Nominations and information must be received no later than 90 days following publication of this Call in the Federal Register. Submittals should indicate “Nominations for Proposed Sale 214” or “Comments on Call for Information and Nominations for Proposed Sale 214” as appropriate. Comments on the NOI also must be received no later than July 7, 2008. Submittals should be labeled “Comments on the Notice of Intent for Proposed Sale 214.”

Nominations and comments may be submitted by any one of the following methods:

• Mail or hand-deliver comments to the Regional Supervisor, Office of Leasing and Environment, Alaska OCS Region, Minerals Management Service, 3801 Centerpoint Drive, Suite 500, Anchorage, Alaska 99503-5823.

• Submit comments by Internet through MMS Public Connect at this website: https://ocsconnect.mms.gov/pcs-public/.

• Fax comments to the Regional Supervisor, Office of Leasing and Environment, Alaska OCS Region, Minerals Management Service at (907) 334-5242.

• E-mail comments to Sale214Call@mms.gov.

Please submit e-mail or Internet comments as an ASCII file avoiding the use of special characters and any form of encryption. Please also include your name and return address in your e-mail or Internet message. If you do not receive a confirmation from the system that we have received your e-mail or Internet message, contact us directly at 1-800-764-2627.

The Call for Information Map delineates the Call area identified by MMS as having potential for the discovery of accumulations of oil and gas. Respondents are requested to indicate nominations and comments on any or all of the Federal acreage within the boundaries of the Call area that they wish in proposed North Aleutian Basin Sale 214. Although individual nominations are considered privileged and proprietary information, the names of persons or entities indicating interest or submitting comments will be of public record.

Nominations must be submitted using the large-scale Call for Information Map by outlining the areas of interest along block lines. Respondents should rank areas in which they have nominated according to priority of interest; for example, priority 1 (high), or 2 (medium). Blocks nominated that do not indicate priorities will be considered priority 3 (low). Respondents must be specific in indicating blocks by priority, and be prepared to discuss their range of interest and activity regarding the nominated area(s). The telephone number and name of a person to contact in the nominator's organization for additional information should be included in the response. The Alaska OCS Regional Office will contact this person to set up a mutually agreeable time and place for a meeting to more fully review the company's nominations. Respondents may also submit a detailed list of blocks nominated by Official Protraction Diagram and Leasing Map designations to ensure correct interpretation of their nominations.

Comments are sought from all interested parties about particular geological (including natural hazard areas), environmental, biological, archaeological, and socioeconomic conditions or potential conflicts, or other information that might bear upon the potential leasing, exploration, and development of the program area and vicinity. Comments are also sought on possible conflicts between future OCS oil and gas activities that may result from the proposed sales and the standards of the Alaska Coastal Management Program (ACMP), and the enforceable policies of an approved local district coastal management plan. These comments should identify specific Coastal Management Program (CMP) policies of concern, the nature of the conflict foreseen, and steps that MMS could take to avoid or mitigate the potential conflict. Comments may be in terms of broad areas or restricted to particular blocks or areas of concern. Those submitting comments are requested to list block numbers or outline the subject area on the standard Call for Information Map.

Our practice is to make comments, including names and addresses of respondents, available for public review during regular business hours. Individual respondents may request that we withhold their address from the rulemaking record, which we will honor to the extent allowable by law. There also may be circumstances in which we would withhold a respondent's identity, as allowable by law. If you wish us to withhold your name or address, you must state this prominently at the beginning of your comment. However, we will not consider anonymous comments. We will make all submissions from organizations or businesses, and from individuals identifying themselves as representatives or officials of organizations or businesses, available for public inspection in their entirety.

5. Use Of Call Information: Information submitted in response to this Call will be used for several purposes. Responses will be used to:

• Identify the proposed sale area;

• Help identify areas of potential oil and gas development;

• Identify potential environmental effects and potential use conflicts;

• Assist in the scoping process for the EIS;

• Develop possible alternatives to the proposed action;

• Develop lease terms and conditions/mitigating measures; and

• Identify potential conflicts between oil and gas activities and the ACMP.

6. Tentative Schedule: The following is a list of tentative milestone dates that apply to Sale 214 covered by this Call:

Call/NOI published—April 2008.

Comments due on Call/NOI—June 2008.

Area Identification—September 2008.

Draft EIS available—January 2010.

Public Hearings—February/March 2010.

Final EIS available—January 2011.

Consistency Determination/Proposed Notice of Sale issued—January 2011.

Governor's Comments due—March 2011.

Final Notice of Sale published—October 2011.

Sale held—November 2011.

Supplemental Information on the Notice of Intent To Prepare an EIS

1. Authority: The NOI is published pursuant to the regulations (40 CFR 1501.7) implementing the provisions of the National Environmental Policy Act of 1969, as amended (42 U.S.C. 4321 et seq. (1988)) (NEPA).

2. Purpose of Notice of Intent: Pursuant to the regulations (40 CFR 1501.7) implementing the procedural provisions of NEPA, the MMS is announcing its intent to prepare an EIS for oil and gas lease Sale 214 tentatively scheduled for 2011 in the “program area” of North Aleutian Basin, offshore the State of Alaska. The proposed action is to offer for lease all of the blocks in the program area. The EIS analysis will focus on the potential environmental effects of oil and gas exploration, development, and production on the fish, wildlife, socioeconomic, and subsistence resources in the North Aleutian Basin “program area” and neighboring communities. This NOI also serves to announce the initiation of the scoping process for this EIS. Throughout the scoping process, Federal, State, Tribal, and local governments and other interested parties aid MMS in determining the significant issues, reasonable alternatives, and potential mitigating measures to be analyzed in the EIS and the possible need for additional information. Alternatives may include, at a minimum, the proposed action, taking no action, or implementing appropriate restrictions on oil and gas activities. These and any additional alternatives developed through scoping and the analytical process will be considered in the decisionmaking process.

3. Instructions on the Notice of Intent: Federal, State, Tribal, and local governments and other interested parties are requested to provide comments related to the scope of the EIS, including significant issues that should be addressed, reasonable alternatives, potential mitigation measures, and relevant information that should be considered. You may mail comments to the Minerals Management Service, Alaska OCS Region, 3801 Centerpoint Drive, Suite 500, Anchorage, Alaska 99503-5823. Comments should be enclosed in an envelope labeled “Attn: Sale 214 NOI.” You may also submit comments via e-mail to sale214NOI@mms.gov. Please include “Attn: NAB Lease Sale 214 NOI” in the subject line, and your name and return address in the message. If you do not receive a confirmation from the system that we have received your e-mail message, please contact us at (907) 334-5207. Lastly, you may hand-deliver comments to the address above. Comments are due no later than July 7, 2008.

Our practice is to make comments, including names and addresses of respondents, available for public review during regular business hours. Individual respondents may request that we withhold their address from the public record, which we will honor to the extent allowable by law. There may also be circumstances in which we would withhold a respondent's identity, as allowable by law. If you wish us to withhold your name and/or address, you must state this prominently at the beginning of your comment. However, we will not consider anonymous comments. We will make all submissions from organizations or businesses, and from individuals identifying themselves as representatives or officials of organizations or businesses, available for public inspection in their entirety. Scoping meetings (to be announced at a later date) will be held in appropriate locations to obtain additional comments and information regarding the scope of the EIS.

A Notice of Availability of the draft EIS for public review and comment will be announced in the Federal Register by the MMS and the Environmental Protection Agency; on the MMS, Alaska OCS Region, homepage; and, in the local media. Public hearings will be held in the local area following release of the draft EIS. Dates and locations are to be determined.

4. Cooperating Agencies: The DOI policy is to invite other Federal agencies, and State, Tribal, and local governments to consider becoming cooperating agencies in the preparation of an EIS. Per Council of Environmental Quality (CEQ) regulations, qualified agencies and governments are those with “jurisdiction by law or special expertise.” Potential cooperating agencies should consider their authority and capacity to assume the responsibilities of a cooperating agency. Cooperating agency status neither enlarges nor diminishes the final decisionmaking authority of any agency involved in the NEPA process. The MMS invites qualified government entities to inquire about cooperating agency status for this lease sale EIS. Upon request, the MMS will provide qualified cooperating agencies with a written summary of ground rules for cooperating agencies, including time schedules and critical action dates, milestones, responsibilities, scope and detail of cooperating agencies' contributions, and handling of predecisional information.

The MMS anticipates this summary will form the basis for a Memorandum of Understanding between the MMS and each cooperating agency. You should also consider the CEQ's “Factors for Determining Cooperating Agency Status.” This document is available on the CEQ Web site at: http://ceq.eh.doe.gov/nepa/regs/cooperating/cooperatingagencymemofactors.html.

Even if your organization is not a cooperating agency, you will continue to have opportunities to provide information and comments to MMS during the normal public input phases of the NEPA/EIS process.

5. Background Information: The geologic basin is about 17,500 square miles in area and underlies the northern coastal plain of the Alaska Peninsula and the waters of Bristol Bay and is believed to be gas-prone. The “program area” is that subarea of the larger planning area identified in OCS Oil and Gas Leasing Program, 2007-2012. Water depths in the program area range from 40 to 120 feet (12 to 37 meters). The program area is approximately 10 statute miles from shore to more than 120 statute miles offshore. This area consists of approximately 990 whole and partial blocks of about 2.3 million hectares (5.6 million acres).

In 1985, the MMS prepared a final environmental impact statement for proposed NAB Sale 92 that assessed the potential impacts of oil and gas leasing activities in the NAB Planning Area (Final Environmental Impact Statement, North Aleutian Basin Sale 92, OCS EIS/EA MMS 85-0052, September 1985). On October 11, 1988, Sale 92 occurred and resulted in the issuance of 23 leases.

In October 1989, the North Aleutian Basin Planning Area was placed under a congressional moratorium which banned DOI expenditures in support of any petroleum leasing or development activities in the planning area. In 1995, the Federal Government bought back the 23 leases that were acquired in the 1988 sale. In 1998, an Executive Order extended the moratorium as a Presidential withdrawal until 2012. In 2004, the congressional moratorium on petroleum-related activities in the NAB was discontinued and in 2007, the Presidential withdrawal was modified to exclude the North Aleutian Basin.

In anticipation of potential leasing-related analysis for the North Aleutian Basin, the MMS Environmental Studies Program convened, in the fall of 2006, a Research Planning Meeting to review the status of environmental information in the NAB and to initiate planning for future study efforts. The MMS also contracted scientific staff at Argonne National Laboratory to conduct a literature search of relevant scientific publications over the last ten years (1996 to 2006), leading to the production of a literature synthesis report. Over 600 recent reports or studies were identified to supply information relevant to the EIS. In 2007, the MMS and the National Marine Fisheries Service began collaboration on a study of the North Pacific right whale, a federally designated endangered species, in the NAB. The MMS also contracted to modify an ice-ocean circulation model for Alaska's Bristol Bay. Proposed studies for fiscal year 2008 include research on subsistence food harvest and sharing activities, studies of juvenile and maturing salmon, and nearshore mapping of juvenile salmon and settling crab. Additional studies are proposed for fiscal year 2009. Information on the Environmental Studies Program, completed studies, and a status report for continuing studies in the NAB area may be found at this Web site: http://www.mms.gov/alaska or obtained by telephone request at 1-800-764-2627, or by written request at the address noted above.

Additional pertinent information may also be found at the following Web sites: http://www.mms.gov/alaska/re/index.htm and http://www.mms.gov/alaska/fo/INDEX.HTM.

BILLING CODE 4310-MR-P

Dated: March 21, 2008.
Jon Hrobsky,
Acting Director, Minerals Management Service.

[FR Doc. E8-7091 Filed 4-7-08; 8:45 am]

BILLING CODE 4310-MR-C